DEPARTMENT OF LABOR

Mine Safety and Health Administration

Technical Study Panel on the Utilization of Belt Air and the Composition and Fire Retardant Properties of Belt Materials in Underground Coal Mining

AGENCY: Mine Safety and Health Administration (MSHA), Labor.

ACTION: Notice of meeting.

SUMMARY: This notice informs interested persons of the first meeting of the Technical Study Panel (Panel) on the Utilization of Belt Air and the Composition and Fire Retardant Properties of Belt Materials in Underground Coal Mining. The public is invited to attend.

DATES: The meeting will start at 1 p.m. on Tuesday, January 9, 2007 and will conclude no later than 5 p.m. on Wednesday, January 10, 2007.

ADDRESSES: The meeting location is the Ronald Reagan Building and International Trade Center, Polaris Suite, 1300 Pennsylvania Avenue, NW., Washington, DC 20004.

FOR FURTHER INFORMATION CONTACT: Patricia W. Silvey, Director, Office of Standards, Regulations, and Variances, Mine Safety and Health Administration, 1100 Wilson Boulevard, Room 2330, Arlington, Virginia 22209; silvey.patricia@dol.gov (Internet e-mail), 202-693-9440 (voice), or 202-693-9441 (facsimile).

SUPPLEMENTARY INFORMATION: The Panel is created under Section 11 of the Mine Improvement and New Emergency Response Act of 2006 (MINER Act) (Public Law 109-236). A copy of the charter establishing this Panel is included as Appendix A of this notice. The purpose of the Panel is to prepare and submit a report concerning the utilization of belt air and the composition and fire retardant properties of belt materials in underground coal mining.

Consistent with the requirements of the MINER Act, the membership of the Panel is as follows:

Selected for Appointment by the Secretary of Health and Human Services.

Dr. Jurgen F. Brune, Chief, Disaster Prevention and Response Branch, Centers for Disease Control, National Institute for Occupational Safety and Health, Pittsburgh Research Laboratory, Pittsburgh, Pennsylvania.

Dr. Felipe Calizaya, Associate Professor, University of Utah, Mining Engineering, Salt Lake City, Utah.

Selected for Appointment by the Secretary of Labor.

Dr. Jan M. Mutmansky, Professor Emeritus of Mining Engineering, the Pennsylvania State University, University Park, Pennsylvania.

Dr. Jerry C. Tien, Associate Professor, Department of Mining Engineering, University of Missouri-Rolla, Rolla, Missouri.

Selected for Appointment Jointly by the Majority Leaders of the Senate and House of Representatives.

Mr. Thomas P. Mucho, Thomas P. Mucho & Associates, Inc., Mining Consultancy, Washington, Pennsylvania.

Selected for Appointment Jointly by the Minority Leaders of the Senate and House of Representatives.

Dr. James L. Weeks, Director, Evergreen Consulting, LLC, Silver Spring, Maryland.

This first meeting will focus on preparatory and administrative issues before the Panel, including:

1. Opening remarks.

2. Procedural issues.

3. Other preparatory and administrative issues.

4. Development of plan or timeline to address Panel objectives.

5. Discussion of future meetings.

Subsequent meetings of the Panel will allow an opportunity for all interested parties to address the Panel and submit written comment on the topics under consideration of the Panel.

Official records of the meeting will be available for public inspection at the above MSHA address.

Dated: December 20, 2006.
Richard E. Stickler,
Assistant Secretary for Mine Safety and Health.

Appendix A—Advisory Committee Charter

1. The Committee's official designation.

Technical Study Panel on the Utilization of Belt Air and the Composition and Fire Retardant Properties of Belt Materials in Underground Coal Mining.

2. The Committee's objectives and the scope of its activity.

The Committee is established in accordance with the requirements of Section 11 of the Mine Improvement and New Emergency Response Act of 2006 (MINER Act) and the Federal Advisory Committee Act. The purpose of the Committee is to “provide independent scientific and engineering review and recommendations with respect to the utilization of belt air and the composition and fire retardant properties of belt materials in underground coal mining.” (MINER Act, Sec. 11)

3. The period of time necessary for the Committee to carry out its purposes.

Not later than one year after the date on which all Committee members are appointed, the Committee must “prepare and submit * * * a report concerning the utilization of belt air and the composition and fire retardant properties of belt materials in underground coal mining.” (MINER Act, Sec. 11)

4. The agencies or officials to whom the Committee reports.

The Committee submits a report to the Secretary of Labor, the Secretary of Health and Human Services, the Committee on Health, Education, Labor, and Pensions of the Senate, and the Committee on Education and Workforce of the House of Representatives.

5. The agency responsible for providing necessary support for the Committee.

The Mine Safety and Health Administration, U.S. Department of Labor, is primarily responsible for providing support for the Committee, including financial, organizational, and administrative. The National Institute for Occupational Safety and Health, Centers for Disease Control and Prevention, U.S. Department of Health and Human Services, may assist with compiling research and other scientific information.

6. A description of the duties for which the Committee is responsible.

As required by Section 11 of the MINER Act, the Committee will provide independent scientific and engineering review and make recommendations in the form of a report with respect to the utilization of belt air and the composition and fire retardant properties of belt materials in underground coal mining.

7. Membership.

As required by Section 11 of the MINER Act, the Committee will be composed of the following:

• Two individuals appointed by the Secretary of Health and Human Services, in consultation with the Director of the National Institute for Occupational Safety and Health and the Associate Director of the Office of Mine Safety;

• Two individuals appointed by the Secretary of Labor, in consultation with the Assistant Secretary for Mine Safety and Health; and

• Two individuals, one appointed jointly by the majority leaders of the Senate and House of Representatives and one appointed jointly by the minority leaders of the Senate and House of Representatives.

Four of the six individuals listed above must possess a masters or doctoral level degree in mining engineering or another scientific field demonstrably related to the subject of the report. No individual appointed shall be an employee of any coal or other mine, or of any labor organization, or of any State or Federal agency primarily responsible for regulating the mining industry.

8. Compensation.

While carrying out the duties of the Committee, its members shall be entitled to receive compensation as a consultant, at an hourly rate equivalent of GS-15, step 10. Employment is not expected to exceed 130 days per year. Committee members will also receive per diem in lieu of subsistence and travel expenses.

9. The estimated annual costs to operate the Committee in dollars and person years.

• Estimated annual operating cost: $600,000.

• Estimated staff years: 4.

10. The estimated number and frequency of Committee meetings.

The Committee will meet at least three times before its termination date. The Agency estimates that each meeting will last approximately two to three days.

11. The Committee's termination date.

This Committee will terminate upon the submission of its report that must be finalized no later than one year after the date on which all members of the Panel are appointed, as required by Section 11 of the MINER Act.

12. The date the charter is filed.

The charter is filed on the date indicated below.

Dated: December 20, 2006.

Elaine L. Chao,

Secretary of Labor.

[FR Doc. E6-22031 Filed 12-21-06; 8:45 am]

BILLING CODE 4510-43-P